DEFENSE NUCLEAR FACILITIES SAFETY BOARD

Draft Revised Strategic Plan for FY 2010-2015

AGENCY: Defense Nuclear Facilities Safety Board.

ACTION: Notice.

SUMMARY: In accordance with OMB Circular No. A-11, the Defense Nuclear Facilities Safety Board is soliciting comments from all interested and potentially affected parties on its draft revised strategic plan. The Board will consider all comments received as a result of this outreach effort. The draft plan is available for review on the Board's Web site— http://www.dnfsb.gov. Comments may be sent to the General Manager at mailbox@dnfsb.gov or the address below. The Board will accept comments through March 5, 2010.

DATES: Comments will be accepted during the period February 1, 2010 through March 5, 2010.

ADDRESSES: Send comments concerning this notice to: Defense Nuclear Facilities Safety Board, 625 Indiana Avenue, NW., Suite 700, Washington, DC 20004-2001.

FOR FURTHER INFORMATION CONTACT: Mr. Brian Grosner, General Manager, 202-694-7060.

SUPPLEMENTARY INFORMATION: This draft strategic plan will replace the Board's FY 2003-2009 Strategic Plan, dated November 17, 2003.

Dated: January 25, 2010.
John E. Mansfield,
Vice Chairman.

[FR Doc. 2010-1803 Filed 1-28-10; 8:45 am]

BILLING CODE 3670-01-P